DEPARTMENT OF TRANSPORTATION

Pipeline and Hazardous Materials Safety Administration

Office of Hazardous Materials Safety; Notice of Application for Special Permits

AGENCY: Pipeline and Hazardous Materials Safety Administration (PHMSA), DOT.

ACTION: List of Applications for Special Permits.

SUMMARY: In accordance with the procedures governing the application for, and the processing of, special permits from the Department of Transportation's Hazardous Material Regulations (49 CFR Part 107, Subpart B), notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before September 22, 2008.

Address Comments to: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Copies of the applications are available for inspection in the Records Center, East Building, PHH-30, 1200 New Jersey Avenue Southeast, Washington DC or at http://dms.dot.gov.

This notice of receipt of applications for special permit is published in accordance with Part 107 of the Federal hazardous materials transportation law (49 U.S.C. 5117(b); 49 CFR 1.53(b)).

Issued in Washington, DC, on August 8, 2008.
Delmer F. Billings,
Director, Office of Hazardous Materials, Special Permits and Approvals.

New Special Permits
Application No. | Docket No. | Applicant | Regulation(s) affected | Nature of special permits thereof
14739-N |  | Battery Council International (BCI), Chicago, IL | 49 CFR 172.316 | To authorize the transportation in commerce of certain Consumer commodities that have been overpacked and do not have the correct markings on the inner package when transported by motor vehicle. (mode 1)
14740-N |  | Air Products and Chemicals, Inc., Allentown, PA | 49 CFR 173.301(c) and (f) and 173.40 | To authorize the transportation in commerce of certain DOT-specification cylinders containing nitric oxide that do not meet the requirements for pressure relief devices. (modes 1, 3)
14741-N |  | Weatherford International, Fort Worth, TX | 49 CFR 173.304 | To authorize the transportation in commerce of sulfur hexafluoride in non-DOT specification cylinders. (modes 1, 3, 4, 5)
14742-N |  | Strong Environmental, Inc., Norcross, GA | 49 CFR 173.12(b) | To authorize the manufacture, marking, sale and use of a IJN standard 4G fiberboard box for use as the outer packaging for lab pack applications in accordance with § 173.12(b). (mode 1)
14743-N |  | TIER DE, Inc., Gap, PA | 49 CFR 173.24b and 173.244 | To authorize the one-time, one-way transportation in commerce of a non-DOT specification metal tank containing approximately 700 lbs. of sodium by motor vehicle. (mode 1)
14744-N |  | Sandia National Laboratories, Albuquerque, NM | 49 CFR 173.24(b)(1) and 173.302a | To authorize the transportation in commerce of DOT Specification 3AA and ICC 3A cylinders containing nitrogen, compressed, and a non-DOT specification refrigeration system containing helium that are installed in the Advance Flight Telescope (AFT) Payload where the cylinders release nitrogen into the satellite telescope during transportation. (modes 1, 4, 5)
14746-N |  | Preferred Foam Products, Inc., Clinton, CT | 49 CFR 173.315(a) | To authorize the transportation in commerce of certain non-DOT specification portable tanks containing a Division 2.2 compressed gas. (modes 1, 2)

[FR Doc. E8-19250 Filed 8-20-08; 8:45 am]

BILLING CODE 4909-60-M